DEPARTMENT OF HOUSING AND URBAN DEVELOPMENT

[Docket No. FR-48787-N-05]

Final Guidance on Federal Financial Assistance Recipients Regarding Title VI Prohibition Against National Origin Discrimination Affecting Limited English Proficient Persons: Announcement of Rescheduled Meeting

AGENCY: Office of the Assistant Secretary for Fair Housing and Equal Opportunity, HUD.

ACTION: Notice; Announcement of Rescheduled Meeting.

SUMMARY: On January 25, 2007, HUD announced through Federal Register notice a February 13, 2007, meeting to discuss HUD's final guidance on “Federal Financial Assistance Regarding Title VI Prohibition against National Origin Discrimination Affecting Limited English Proficient Persons” (LEP Final Guidance). This meeting has been rescheduled for February 28, 2007, and the meeting will run from 3 p.m. to 5 p.m. (which is also a change from the February 13, 2007, meeting time of 2 p.m. to 4 p.m.).

Additionally, HUD's LEP Final Guidance was scheduled to become effective on February 21, 2007. By notice published elsewhere in today's Federal Register, the effective date of the guidance is now March 7, 2007.

DATES: HUD will conduct the meeting on LEP Final Guidance on February 28, 2007.

ADDRESS: The LEP Guidance meeting will be held from 3 p.m. to 5 p.m. (Eastern time) on February 28, 2007, at HUD Headquarters for which the address is the Department of Housing and Urban Development, 451 Seventh Street, SW., Washington, DC. HUD is no longer soliciting participation in the meeting.

FOR FURTHER INFORMATION CONTACT: Pamela D. Walsh, Director, Program Standards and Compliance Division, Office of Fair Housing and Equal Opportunity, Department of Housing and Urban Development 451 Seventh Street, SW., Room 5226, Washington, DC 20410-0500; telephone (202) 402-2288 (this is not a toll-free number). Persons with hearing or speech disabilities may access this number through TTY by calling the toll-free Federal Information Relay Service at (800) 877-8339.

SUPPLEMENTARY INFORMATION

Background

On January 22, 2007, HUD published in the Federal Register (72 FR 2732) final guidance to help recipients of federal financial assistance take reasonable steps to meet their regulatory and statutory obligations to ensure that LEP persons have meaningful access to HUD programs and activities. Under Title VI of the Civil Rights Act of 1964 (Title VI) and its implementing regulations, recipients of federal financial assistance have a responsibility to ensure meaningful access to programs and activities by LEP persons.

The January 22, 2007, LEP Final Guidance was preceded by proposed guidance published on December 19, 2003 (68 FR 70968) for which HUD solicited public comment. The LEP Final Guidance takes into consideration the public comments received on the December 19, 2003, proposed guidance. There are no significant changes between the proposed guidance and the final guidance. However, for purposes of clarification, several minor changes were made in Appendix A, and a new Appendix B has been added to the Guidance. Appendix B, “Questions and Answers (Q&A),” responds to frequently asked questions (FAQs) related to providing meaningful access to LEP persons. HUD's LEP Final Guidance can be found at http://www.hud.gov/offices/fheo/promotingfh/lep.cfm.

February 28, 2007 Meeting

HUD will hold a meeting on the guidance on February 28, 2007, from 3 p.m. to 5 p.m., at HUD Headquarters. Interested members of the public were earlier invited to attend this meeting, originally scheduled for February 13, 2007, by notice published in the Federal Register on January 25, 2007 (72 FR 3404). HUD is no longer soliciting participation in this meeting. Interested parties who contacted HUD by the response deadline of February 9, 2007, have received notification of confirmation to participate in the meeting.

Dated: February 12, 2007.
Kim Kendrick,
Assistant Secretary for Fair Housing and Equal Opportunity.

[FR Doc. E7-2811 Filed 2-15-07; 8:45 am]

BILLING CODE 4210-67-P